DEPARTMENT OF COMMERCE

Foreign-Trade Zones Board

[B-55-2018]

Foreign-Trade Zone (FTZ) 207—Richmond, Virginia; Notification of Proposed Production Activity; Kaiser Aluminum Fabricated Products, LLC (Aluminum Extrusions); Richmond, Virginia

Kaiser Aluminum Fabricated Products, LLC (Kaiser) submitted a notification of proposed production activity to the FTZ Board for its facility in Richmond, Virginia. The notification conforming to the requirements of the regulations of the FTZ Board (15 CFR 400.22) was received on August 29, 2018.

The applicant indicates that it will be submitting a separate application for FTZ designation at the Kaiser facility under FTZ 207. The facility is used for the production of aluminum extrusions for the automotive industry. Pursuant to 15 CFR 400.14(b), FTZ activity would be limited to the specific foreign-status materials and components and specific finished products described in the submitted notification (as described below) and subsequently authorized by the FTZ Board.

Production under FTZ procedures could exempt Kaiser from customs duty payments on the foreign-status components used in export production. On its domestic sales, for the foreign-status materials/components noted below, Kaiser would be able to choose the duty rates during customs entry procedures that apply to: Hollow profile tubes of aluminum alloys; bars and rods of aluminum alloys; rounded bars and rods of aluminum alloys; non-rounded bars and rods of aluminum alloys; and, tube pipe of aluminum alloys (duty rate ranges from 1.5% to 5.7%). Kaiser would be able to avoid duty on foreign-status components which become scrap/waste. Customs duties also could possibly be deferred or reduced on foreign-status production equipment.

The components and materials sourced from abroad include alloyed aluminum logs and billets (duty-free). The request indicates that the materials/components are subject to special duties under Section 232 of the Trade Expansion Act of 1962 (Section 232), depending on the country of origin. The applicable Section 232 decision requires subject merchandise to be admitted to FTZs in privileged foreign status (19 CFR 146.41).

Public comment is invited from interested parties. Submissions shall be addressed to the Board's Executive Secretary at the address below. The closing period for their receipt is October 17, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Elizabeth Whiteman at Elizabeth.Whiteman@trade.gov or (202) 482-0473.

Dated: September 4, 2018.
Andrew McGilvray,
Executive Secretary.

[FR Doc. 2018-19422 Filed 9-6-18; 8:45 am]

BILLING CODE 3510-DS-P